DEPARTMENT OF HEALTH AND HUMAN SERVICES

Food and Drug Administration

[Docket No. 95F-0221]

DuCoa L.P. ; Filing of Food Additive Petition (Animal Use); Natamycin; Change of Petitioner's Name

AGENCY: Food and Drug Administration, HHS.

ACTION: Notice.

SUMMARY: The Food and Drug Administration (FDA) has been notified by the petitioner, DuCoa L.P., that it has changed its name to Arkion Life Sciences, doing business at the same address. On September 20, 1995 (60 FR 48715), a Federal Register notice announced that a food additive petition (FAP 2234) had been filed by DuCoa L.P. proposing the use of natamycin as a mold retardent in broiler chicken feed.

FOR FURTHER INFORMATION CONTACT: Karen Ekelman, Center for Veterinary Medicine (HFV-228), Food and Drug Administration, 7500 Standish Pl., Rockville, MD 20855, 301-827-6653, e-mail: kekelman@cvm.fda.gov.

Dated: May 14, 2003.
Stephen F. Sundlof,
Director, Center for Veterinary Medicine.

[FR Doc. 03-12784 Filed 5-21-03; 8:45 am]

BILLING CODE 4160-01-S